DEPARTMENT OF COMMERCE

National Technical Information Service

Renewal of Currently Approved Information Collection; Comment Request; Limited Access Death Master File Systems Safeguards Attestation Forms

AGENCY: National Technical Information Service, Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 17, 2019.

ADDRESSES: Direct all written comments to John W. Hounsell, Program Manager, Office of Program Management, National Technical Information Service, Department of Commerce, 5301 Shawnee Road, Alexandria, VA 22312 (or at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to John W. Hounsell, at email: jhounsell@ntis.gov or telephone: 703-605-6184.

SUPPLEMENTARY INFORMATION:

I. Abstract

This notice informs the public that the National Technical Information Service (NTIS) is requesting the renewal of an information collection described in Section II for use in connection with the final rule entitled “Certification Program for Access to the Death Master File.” The final rule was published on June 1, 2016 and became effective on November 28, 2016. The information collection described in Section II, was approved and became effective on December 23, 2016.

II. Method of Collection

Title of Information Collection: “Limited Access Death Master File Accredited Conformity Assessment Body Application for Firewalled Status” (Firewalled Status Application Form).

Description of the need for the information and the proposed use: NTIS issued a final rule establishing a program through which persons may become eligible to obtain access to Death Master File (DMF) information about an individual within three years of that individual's death (81 FR 34882, June 1, 2016). The final rule was promulgated under Section 203 of the Bipartisan Budget Act of 2013, Public Law 113-67 (Act). The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS.

The final rule requires that, in order to become certified, a Person must submit a written attestation from an “Accredited Conformity Assessment Body” (ACAB), as defined in the final rule, that such Person has information security systems, facilities and procedures in place to protect the security of the Limited Access DMF, as required under Section 1110.102(a)(2) of the final rule. A Certified Person also must provide a new written attestation periodically for renewal of its certification as specified in the final rule. The ACAB must be independent of the Person or Certified Person seeking certification, unless it is a conformity assessment body which qualifies for “firewalled status” pursuant to Section 1110.502 of the final rule.

The Firewalled Status Application Form collects information that NTIS will use to evaluate whether the respondent qualifies for “firewalled status” under the rule, and, therefore, can provide a written attestation in lieu of an independent ACAB's attestation. This information includes specific requirements of Section 1110.502(b) of the final rule, which the respondent ACAB must certify are satisfied, and the provision of specific information by the respondent ACAB, such as the identity of the Person or Certified Person that would be the subject of the attestation and the basis upon which the certifications were made.

III. Data

OMB Control Number: 0692-0015.

Form Number(s): NTIS FM101.

Type of Review: Regular submission.

Affected Public: Accredited Conformity Assessment Bodies seeking firewalled status under 15 CFR 1110.502 because they are “owned, managed or controlled” by the Person or Certified Person for whom they are providing assessment(s) and or audit(s) under the final rule for the “Certification Program for Access to the Death Master File.”

Estimated Number of Respondents: NTIS expects to receive approximately 250 applications and renewals for certification every year, of which it expects that approximately 20% of the required assessments will be provided by Accredited Conformity Assessment Bodies that will seek firewalled status in a given year. Accordingly, NTIS estimates that it will receive approximately 50 Firewalled Status Application Forms per year.

Estimated Time per Response: 60 minutes.

Estimated Total Annual Burden Hours: 50 (50 × 1 hour = 50 hours).

Estimated Total Annual Cost to Public: NTIS expects to receive approximately 50 applications annually at a fee of $268 per application, for a total cost to the public of $13,400. The total annual cost reflects the cost to the Federal Government, which consists of the expenses associated with NTIS personnel reviewing and processing the Firewalled Status Application Forms. In addition, NTIS estimates that it will take a senior auditor within the organization one hour to complete the form at a rate of $135 per hour, for a total additional cost to the public of $6,750 (50 burden hours × $135/hour = $6,750). NTIS estimates the total annual cost to the public to be $13,400 in fees + $6,750 in staff time = $20,150.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including the potential use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-22779 Filed 10-17-19; 8:45 am]

BILLING CODE 3510-04-P